DEPARTMENT OF THE INTERIOR

Bureau of Ocean Energy Management, Regulation and Enforcement

30 CFR Part 250

[Docket ID BOEM-2010-0034]

RIN 1010-AD68

Oil and Gas and Sulphur Operations in the Outer Continental Shelf—Increased Safety Measures for Energy Development on the Outer Continental Shelf; Correction

AGENCY: Bureau of Ocean Energy Management, Regulation and Enforcement (BOEMRE), Interior.

ACTION: Interim final rule; correction.

SUMMARY: BOEMRE published an interim final rule implementing certain safety measures recommended for improving the safety of oil and gas exploration and development on the Outer Continental Shelf. This document contains a correction to the final regulations published on October 14, 2010, which inadvertently deleted one sentence from the existing regulations. The correction being made is non-substantive and is necessary for clarification purposes only.

DATES: Effective Date: This correction is effective December 9, 2010.

FOR FURTHER INFORMATION CONTACT: Amy C. White, (703) 787-1665.

SUPPLEMENTARY INFORMATION:

Background

BOEMRE published an interim final rule in the Federal Register on October 14, 2010 (75 FR 63346), titled “Increased Safety Measures for Energy Development on the Outer Continental Shelf.”

On page 63372 of the Federal Register publication of the interim final rule, the first sentence in § 250.415(d) was inadvertently deleted.

List of Subjects in 30 CFR Part 250

Administrative practice and procedure, Continental shelf, Incorporation by reference, Oil and gas exploration, Public lands—mineral resources, Reporting and recordkeeping requirements.

Dated: November 30, 2010.
Ned Farquhar,
Deputy Assistant Secretary—Land and Minerals Management.

Accordingly, Bureau of Ocean Energy Management, Regulation and Enforcement is making the correcting amendment to 30 CFR Part 250 as follows:

PART 250—OIL AND GAS AND SULPHUR OPERATIONS IN THE OUTER CONTINENTAL SHELF

1. The authority citation for part 250 continues to read as follows:

Authority: 31 U.S.C. 9701, 43 U.S.C. 1334.

2. In § 250.415, revise paragraph (d) to read as follows:

§ 250.415 What must my casing and cementing programs include?

* * * * *

(d) In areas containing permafrost, setting depths for conductor and surface casing based on the anticipated depth of the permafrost. Your program must provide protection from thaw subsidence and freezeback effect, proper anchorage, and well control;

* * * * *

[FR Doc. 2010-30990 Filed 12-8-10; 8:45 am]

BILLING CODE 4310-MR-P